DEPARTMENT OF LABOR

Employment and Training Administration

[TA-W-70,623]

General Motors Company, Lordstown Assembly Plant, Including On-Site Leased Workers From Adroit Software & Consulting, Inc., ACRO Service Corporation, the Bartech Group and Aerotek Automotive, Warren, OH; Amended Certification Regarding Eligibility To Apply for Worker Adjustment Assistance

In accordance with Section 223 of the Trade Act of 1974, as amended (“Act”), 19 U.S.C. 2273, the Department of Labor issued a Certification of Eligibility to Apply for Worker Adjustment Assistance on September 2, 2009, applicable to workers of General Motors Company, Lordstown Assembly Plant, Warren, Ohio. The notice will be published soon in the Federal Register.

At the request of the State Agency, the Department reviewed the certification for workers of the subject firm. The workers assemble the Chevrolet Cobalt and Pontiac G5. The workers are not separately identifiable by vehicle.

The company reports that workers leased from Adroit Software & Consulting, Inc., Acro Service Corporation, The Bartech Group and Aerotek Automotive were employed on-site at the Warren, Ohio location of General Motors Company, Lordstown Assembly Plant.

The Department has determined that these workers were sufficiently under the control of the subject firm to be considered leased workers.

Based on these findings, the Department is amending this certification to include workers leased from Adroit Software & Consulting, Inc., Acro Service Corporation, The Bartech Group and Aerotek Automotive working on-site at the Warren, Ohio location of General Motors Company, Lordstown Assembly Plant.

The amended notice applicable to TA-W-70,623 is hereby issued as follows:

All workers of General Motors Company, Lordstown Assembly Plant, including on-site leased workers from Adroit Software & Consulting, Inc., Acro Service Corporation, The Bartech Group and Aerotek Automotive, Warren, Ohio, who became totally or partially separated from employment on or after May 18, 2008, through September 2, 2011, and all workers in the group threatened with total or partial separation from employment on date of certification through two years from the date of certification, are eligible to apply for adjustment assistance under Chapter 2 of Title II of the Trade Act of 1974, as amended.

Signed at Washington, DC, this 13th day of October 2009.
Richard Church,
Certifying Officer, Division of Trade Adjustment Assistance.

[FR Doc. E9-25788 Filed 10-26-09; 8:45 am]

BILLING CODE 4510-FN-P